DEPARTMENT OF THE INTERIOR

National Park Service

[NPS-PWR-PWRO-11522; PX.P0131800B.00.1]

Draft Environmental Impact Statement for Merced Wild and Scenic River Comprehensive Management Plan, Yosemite National Park, Madera and Mariposa Counties, CA

AGENCY: National Park Service, Interior.

ACTION: Notice of availability.

SUMMARY: Pursuant to the National Environmental Policy Act of 1969 (NEPA), 42 U.S.C. 4332(2)(C), and the Council on Environmental Quality Regulations (40 CFR part 1500-1508), the National Park Service (NPS) has prepared a Draft Environmental Impact Statement (DEIS) for the proposed Merced Wild and Scenic River Comprehensive Management Plan (Merced River Plan). The Merced River Plan will fulfill the requirements of the Wild and Scenic Rivers Act, 16 U.S.C. 1271-1287, and will provide long-term protection of river values and a user capacity management program for 81 miles of the Merced River that flow through Yosemite National Park and the El Portal Administrative Site.

Consistent with the Wild and Scenic Rivers Act (WSRA), the purposes of the Merced River Plan/DEIS are to protect the Merced River's free-flowing conditions, and to: (1) Review, and if necessary revise, the river corridor boundaries and segment classifications, and provide a process for protection of the river's free-flowing condition in keeping with the WSRA; (2) Refine descriptions of the river's outstandingly remarkable values (ORVs), which are the unique, rare, or exemplary in a regional or national context, and the river-related/river-dependent characteristics that make the river eligible for inclusion in the national wild and scenic rivers system; (3) Identify management objectives for the river, and specific management measures that will be implemented to achieve protection and enhancement of river values; (4) Establish a user capacity program that addresses the kinds and amounts of public use that the river corridor can sustain while protecting and enhancing the river's ORVs; (5) Commit to a program of ongoing studies and monitoring to ensure that the ORVs are protected and enhanced over the life of the plan.

The Merced River Plan/DEIS evaluates the potential adverse and beneficial environmental consequences of implementing a range of five action alternatives, including a no action alternative in accordance with NEPA; and for the potential to cause adverse effects to historic properties in accordance with Section 106 of the National Historic Preservation Act. Both the agency preferred and environmentally preferred alternatives are identified. Actions called for in the 1980 Yosemite General Management Plan (GMP) addressing management within the Merced Wild and Scenic River corridor would be amended and are outlined in the Merced River Plan/DEIS.

DATES: The NPS will be accepting public comments on the Merced River Plan/DEIS for 90 days. All comments must be transmitted or postmarked no later than 90 days from the date of publication of the U.S. Environmental Protection Agency's notice of filing for this Draft EIS in the Federal Register.

FOR FURTHER INFORMATION CONTACT: Please contact Kathleen Morse, Planning Division, Yosemite National Park, P.O. Box 577, Yosemite, CA 95389; telephone (209) 379-1110.

Development of Proposal and Alternatives: On April 11, 2007, the NPS published a Notice of Intent to prepare an EIS in the Federal Register. This initial scoping period included three public meetings and resulted in 191 responses. Public scoping was reopened with a Federal Register notice on June 30, 2009, and through multiple public notices in newspapers throughout northern California and the Yosemite region. The second scoping period was extended until February 4, 2010 and resulted in 576 responses. Also throughout this period, e-newsletters were sent to 5,700 recipients and postcards to 25,000 Yosemite campers.

The Merced River Plan/DEIS has been developed through consultation with traditionally associated American Indian tribes, the State Historic Preservation Officer, and other federal and state agencies. Gateway communities, organizations, and interested members of the public have provided more than 1,460 pieces of correspondence (including letters, faxes, emails, comment forms, and public meeting flip-chart notes). The NPS has conducted more than 40 public meetings, presentations, workshops, field visits, and open houses in support of the EIS process. Two preliminary alternatives concept workbooks were prepared and distributed for public review and comment prior to completion of the Merced River Plan/DEIS.

Based on a thorough examination of the river's baseline conditions at the time of designation (1986), a multi-faceted approach to river management and stewardship is proposed. To address the WSRA mandate to protect and enhance river values, many of the plan's actions would be common to all the action alternatives, including: (1) All WSRA management elements (boundaries, classifications, § 7 determination process); (2) actions to protect and enhance river values (e.g., ecological restoration components); (3) removal and/or relocation of numerous facilities and services; (4) actions to improve traffic circulation and reduce congestion; (5) implementation of a monitoring program that sets thresholds for when management actions must be taken to protect river values; and (6) numeric limits on use through a user capacity management program.

In keeping with the expressed purpose and need, the DEIS identifies and evaluates five action alternatives for management of the river corridor, and a No-Action alternative. The action alternatives vary primarily in the degree of restoration and the amount of visitor use that could be accommodated by the commensurate level of facilities and services necessary to protect river values under each scenario. The interdisciplinary and public involvement effort provided varying perspectives and experiences that were considered during the alternative development process.

Alternative 1 (No-Action; baseline conditions) would continue current management and trends, including ongoing localized impacts associated with impacts to free flowing condition of the river and connectivity of meadows, permanent facilities in the Merced River floodplain, and pedestrian-vehicle conflicts at major intersections. In 2011, the peak daily visitation recorded for East Yosemite Valley was 20,900 people over a 24-hour period. Under the existing GMP, East Yosemite Valley visitation would be approximately 18,241 people.

Actions Common to Alternatives 2-6: All five action alternatives would protect and enhance river values by improving conditions that threaten sensitive meadows, archeological resources, and scenic vistas, and would differ primarily in the kinds of visitor opportunities available at Yosemite Valley and the Merced Lake High Sierra Camp. Restoration actions common to alternatives 2-6 include the removal of revetments, abandoned infrastructure, informal trails, and encroaching conifers in meadows; restoring riparian areas and meadow hydrology; regulating river access; and cultural resource protection and scenic resource protection. All alternatives would accommodate traditional cultural practices by American Indian tribes and groups. The action alternatives included in the Merced River Plan more closely align capacity with visitation to improve the visitor experience and allow for more extensive resource protection.

Alternative 2: Self-Reliant Visitor Experiences and Extensive Floodplain Restoration would include major restoration within the 100-year floodplain, significant reduction in facilities and services, and significantly lower visitor use than today. Given the conditions in this Alternative, visitation to East Yosemite Valley would be approximately 13,900 people per day over a 24-hour period.

Alternative 3: Dispersed Visitor Experiences and Extensive Riverbank Restoration would include significant restoration within 150 feet of the river, marked reduction in visitor facilities and services, and significantly lower visitor use than today. Given the conditions in this Alternative, East Yosemite Valley visitation would be approximately 13,200 people per day over a 24-hour period.

Alternative 4: Resource-based Visitor Experiences and Targeted Riverbank Restoration would include targeted restoration within 150 feet of the river, reduced commercial services with a significant increase over current camping opportunities, and slightly lower visitor use than today. Given the conditions in this Alternative, East Yosemite Valley visitation would be approximately 17,000 people per day over a 24-hour period.

Alternative 5 (agency-preferred): Enhanced Visitor Experiences and Essential Riverbank Restoration would include essential restoration within 100 feet of the river, reduced commercial services with moderate increases to current camping opportunities, and approximately the same level of visitor use as today. Given the conditions in this Alternative, East Yosemite Valley visitation would be approximately 19,900 people per day over a 24-hour period. This preferred course of action is also identified as the “environmentally preferred” alternative.

Alternative 6: Diversified Visitor Experiences and Selective Riverbank Restoration would include limited restoration within 100 feet of the river, expanded facilities and services with the largest increase over current camping opportunities, and some growth in visitor use over time. Given the conditions in this Alternative, East Yosemite Valley visitation would be allowed to increase to approximately 21,800 people per day over a 24-hour period.

How To Comment: At any time during the 90 day public review period, comments may be transmitted electronically through the NPS Planning, Environment and Public Comment Web site at http://parkplanning.nps.gov/yose_mrp, or through the Yosemite National Park Web site at yose_planning@nps.gov. Alternately, written comments may be mailed to Superintendent, Yosemite National Park, Attn: Merced River Plan DEIS, P.O. Box 577, Yosemite, California 95389, or may be hand-delivered at one of the scheduled public meetings.

Before including your address, phone number, email address, or other personal identifying information in your comment, you should be aware that your entire comment—including your personal identifying information—may be made publicly available at any time. While you can ask us in your comment to withhold your personal identifying information from public review, we cannot guarantee that we will be able to do so.

Public meetings and site visits will be hosted in Yosemite Valley and in several gateway communities, and San Francisco. Any individual or organization who wants to express an opinion about the effects of the plan on natural or cultural resources and/or the visitor experience is encouraged to attend. All in-park meetings will be available through the park's Web site at https://yose.webex.com. All meeting locations and dates will be announced via the Yosemite electronic newsletter, press releases, and posted on the park's Web site http://www.nps.gov/yose/parkmgmt/mrp.htm.

Printed or CD format documents may be requested through email (yose_planning@nps.gov), or by telephone at (209) 379-1110. In addition, the DEIS will be available at public libraries in local communities. Electronic versions will be available online at http://parkplanning.nps.gov/yose_mrp, which can be accessed directly through the Yosemite National Park Web site (noted above).

Decision Process: All comments submitted on the Merced River Plan/DEIS will be duly considered in preparing the Final Environmental Impact Statement (Final EIS). The Final EIS/Merced River Plan is expected to be available in Spring of 2013; availability will be announced similarly as the DEIS, including notice in the Federal Register. A Record of Decision will be prepared not sooner than 30 days after release of the FEIS. As a delegated EIS process, the official responsible for final approval is the Regional Director, Pacific West Region, National Park Service; subsequently, the official responsible for implementation of the approved Merced River Plan is the Superintendent, Yosemite National Park.

Dated: November 19, 2012.
Christine S. Lehnertz,
Regional Director, Pacific West Region.

[FR Doc. 2013-01461 Filed 1-24-13; 8:45 am]

BILLING CODE 4312-FF-P